DEPARTMENT OF THE INTERIOR

Bureau of Land Management

[LLWO2600000 L10600000 XQ0000]

Notice of Wild Horse and Burro Advisory Board Meeting

AGENCY: Bureau of Land Management, Interior.

ACTION: Notice.

SUMMARY: The Bureau of Land Management (BLM) announces that the Wild Horse and Burro Advisory Board will conduct a meeting on matters pertaining to management and protection of wild, free-roaming horses and burros on the Nation's public lands.

DATES: The Advisory Board will meet on Monday, April 23, 2012 from 1:30 p.m. until 5 p.m. and on Tuesday, April 24, 2012 from 8 a.m. until 5 p.m., local time. This will be a one and a half day meeting.

ADDRESSES: This Advisory Board meeting will take place in Reno, Nevada at the Grand Sierra Resort and Casino, 2500 East 2nd Street, Reno, Nevada 89595. The hotel phone number for reservations is 775-789-2129 or 800-648-5080.

Written comments pertaining to the April 23-24, 2012 Advisory Board meeting can be mailed to National Wild Horse and Burro Program,WO-260, Attention: Ramona DeLorme, 1340 Financial Boulevard, Reno, Nevada, 89502-7147, or sent electronically to the BLM through the Wild Horse and Burro Web site at: http://www.blm.gov/wo/st/en/prog/whbprogram/recent_news_and_information/enhanced_feedback_form.html.

FOR FURTHER INFORMATION CONTACT: Ramona DeLorme, Wild Horse and Burro Administrative Assistant, at 775-861-6583. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Wild Horse and Burro Advisory Board advises the Secretary of the Interior, the BLM Director, the Secretary of Agriculture, and the Chief of the Forest Service on matters pertaining to the management and protection of wild, free-roaming horses and burros on the Nation's public lands. The Wild Horse and Burro Advisory Board operates under the authority of 43 CFR 1784. The tentative agenda for the two day event is:

I. Advisory Board Public Meeting

Monday, April 23, 2012 (1:30 p.m.-5 p.m.)

1:30 p.m. Welcome and Introductions

Call to order

Assistant Director's Welcome

Nevada State Director's Welcome

Program Overview

2:30 p.m. Old Business

Approval of October 2011 Minutes

October 2011 Meeting follow up and responses to Recommendations

3 p.m. Break

3:15 p.m. Old Business cont'd

October 2011 Meeting follow up and responses, cont'd

5 p.m. Adjourn

Tuesday, April 24, 2011 (8 a.m.-5 p.m.)

8 a.m. Old Business cont'd, Updates

Director's Challenge

Wild Horse and Burro Strategy and FY 2005-2010 Report to Congress

Research

9:30 a.m. Break

Comprehensive Animal Welfare Program

Litigation

10:30 a.m. Break

10:45 a.m. Public Comment period

Lunch (12 p.m.-1 p.m.)

1 p.m. New Business

Sage Grouse Planning Strategy

Advisory Board Charter/Standard Operating Procedures/By-Laws

2:45 p.m. Break

3 p.m. Board Recommendations

4:30 a.m. Recap/Summary/Next Meeting/Date/Site

5 p.m. Adjourn

The meeting site is accessible to individuals with disabilities. An individual with a disability needing an auxiliary aid or service to participate in the meeting, such as an interpreting service, assistive listening device, or materials in an alternate format, must notify Ms. DeLorme two weeks before the scheduled meeting date. Although the BLM will attempt to meet a request received after that date, the requested auxiliary aid or service may not be available because of insufficient time to arrange it.

The Federal Advisory Committee Management Regulations at 41 CFR 101-6.1015(b), requires BLM to publish in the Federal Register notice of a public meeting 15 days prior to the meeting date.

II. Public Comment Procedures

On Tuesday, April 24, 2012 at 10:45 a.m. members of the public will have the opportunity to make comments to the Board on the Wild Horse and Burro Program. Persons wishing to make comments during the Tuesday meeting should register in person with the BLM by 10 a.m. on April 24, 2012, at the meeting location. Depending on the number of commenters, the Advisory Board may limit the length of comments. At previous meetings, comments have been limited to three minutes in length; however, this time may vary. Commenters should address the specific wild horse and burro-related topics listed on the agenda. Speakers are requested to submit a written copy of their statement to the address listed in the ADDRESSES section above or bring a written copy to the meeting. There may be a webcam present during the entire meeting and individual comments may be recorded.

Participation in the Advisory Board meeting is not a prerequisite for submission of written comments. The BLM invites written comments from all interested parties. Your written comments should be specific and explain the reason for any recommendation. The BLM appreciates any and all comments. The BLM considers comments that are either supported by quantitative information or studies or those that include citations to and analysis of applicable laws and regulations to be the most useful and likely to influence BLM's decisions on the management and protection of wild horses and burros.

Before including your address, phone number, email address, or other personal identifying information in your comment, you should be aware that your entire comment—including your personal identifying information—may be made publicly available at any time. While you can ask us in your comment to withhold your personal identifying information from public review, we cannot guarantee that we will be able to do so.

Dated: March 13, 2012.
Edwin L. Roberson,
Assistant Director, Renewable Resources and Planning.

[FR Doc. 2012-6587 Filed 3-16-12; 8:45 am]

BILLING CODE 4310-84-P